DEPARTMENT OF ENERGY

Notice of Intent To Prepare a Programmatic Environmental Impact Statement for Implementation of the Carbon Sequestration Program

AGENCY: Department of Energy.

ACTION: Notice of intent.

SUMMARY: The U.S. Department of Energy (DOE) announces its intent to prepare a Programmatic Environmental Impact Statement (PEIS) pursuant to the National Environmental Policy Act (NEPA), the Council on Environmental Quality (CEQ) NEPA regulations (40 Code of Federal Regulations [CFR] parts 1500-1508), and the DOE NEPA regulations (10 CFR part 1021), to assess the potential environmental impacts from the Department of Energy's (DOE's) Carbon Sequestration Program, which is being implemented by the Office of Fossil Energy.

The Carbon Sequestration PEIS will evaluate the issues and impacts associated with the demonstration and deployment of technologies to implement the key elements of the Program, including: carbon dioxide (CO2) capture; sequestration (geologic, oceanic, and terrestrial); measurement, monitoring, and verification (MMV); and breakthrough concepts. Major initiatives to demonstrate the key elements of the Program may require collaboration with Federal agencies, State and regional governments, and private sector partnerships. The PEIS will analyze impacts of carbon sequestration technologies and potential future demonstration activities programmatically and will not directly evaluate specific field demonstration projects. However, because the PEIS will evaluate issues and impacts associated with regional approaches, opportunities, and future needs for the Program, findings from the PEIS may be applicable to future site-specific projects within the Carbon Sequestration Program, for which separate NEPA documents that could tier from the PEIS would be prepared. The PEIS will evaluate the potential environmental impacts of implementing the Carbon Sequestration Program (the Proposed Action), in comparison with other reasonable alternatives.

DATES: To ensure that all of the issues related to this proposal are addressed, DOE invites Federal agencies, Native American tribes, state and local governments, and members of the public to comment on the proposed scope and content of the PEIS. Comments must be received by June 25, 2004 to ensure consideration. Late comments will be considered to the extent practicable. In addition to receiving comments in writing and by telephone (see ADDRESSES below), DOE will conduct public scoping meetings in which agencies, organizations, and the general public are invited to present oral comments or recommendations with respect to the range of environmental issues, alternatives, analytic methods, and impacts to be considered in the PEIS. Public scoping meetings will be held in geographic locations throughout the United States (see SUPPLEMENTARY INFORMATION—Public Scoping Process for meeting locations and scheduled dates).

ADDRESSES: Written comments on the scope of the PEIS and requests to participate in the public scoping meetings should be submitted to Heino Beckert, Ph.D., NEPA Document Manager for Carbon Sequestration PEIS, U.S. Department of Energy, National Energy Technology Laboratory, 3610 Collins Ferry Road, P.O. Box 880, Morgantown, WV 26507. Individuals who want to participate in the public scoping process should contact Dr. Beckert directly by telephone: (304) 285-4132; fax: (304) 285-4403; electronic mail: heino.beckert@netl.doe.gov; or toll-free telephone number: (877) 367-1521.

FOR FURTHER INFORMATION CONTACT: For information on the DOE's Carbon Sequestration Program or to receive a copy of the Draft PEIS for review when it is issued, contact Dr. Heino Beckert as described in ADDRESSES above. For general information on the DOE NEPA process, contact: Ms. Carol M. Borgstrom, Director, Office of NEPA Policy and Compliance (EH-42), U.S. Department of Energy, 1000 Independence Avenue, SW., Washington, DC 20585-0119, telephone: (202) 586-4600, fax: (202) 586-7031, or leave a toll-free message at 800-472-2756. Additional NEPA information is available at the DOE Web site: http://www. eh.doe.gov/nepa/. Additional information on the Carbon Sequestration Program can be found at the following Web site: http://www.netl.doe.gov/coalpower/sequestration/index.html.

SUPPLEMENTARY INFORMATION:

Definitions

For the purpose of this Notice, the following terms are defined:

Carbon Sequestration—The term given to a suite of technologies that can remove carbon dioxide from large point sources, such as power plants, oil refineries and industrial processes, or from the air itself. The carbon dioxide can then be stored in geologic formations, such as depleted oil and gas reservoirs, deep coal seems or saline formations. It can also be stored in plants, trees and soils by increasing their natural carbon dioxide uptake.

Carbon Intensity—The ratio of carbon dioxide emissions to economic output.

CO2 Capture—Refers to a range of technologies and methods employed to capture carbon dioxide in the process stream or at the source of emission. Such technologies may include organic chemical absorbents, carbon absorbents, membranes, sodium and other metal-based absorbents, electromechanical pumps, hydrates, mineral carbonation, and other processes.

Geologic Sequestration—Refers to a range of technologies and methods employed to bind or store carbon dioxide in geologic formations, including depleted oil or gas reservoirs, unminable coal seams, saline formations, shale formations with high organic content, and others.

Oceanic Sequestration—Refers to a range of technologies and methods employed to bind, store, or increase carbon dioxide uptake in the ocean. Such technologies may include deep ocean injection of captured carbon dioxide gas or the enhancement of free carbon dioxide uptake by marine ecosystems through ocean fertilization or other methods to enhance natural absorption processes.

Terrestrial Sequestration—Refers to a range of technologies and methods employed to increase carbon uptake by terrestrial ecosystems. Such methods may involve changes in land management practices, including forestation or reforestation, agricultural practices that enhance carbon storage in soils, and other land reclamation methods.

Measurement, Monitoring, and Verification (MMV)—Refers to a range of technologies and methods employed to measure baseline carbon levels in geologic formations, oceans, and terrestrial ecosystems; to assess ecological impacts of carbon storage; to detect leaks or deterioration in carbon dioxide storage processes; and to calculate net carbon dioxide emissions to the atmosphere avoided via technologies for capture and sequestration.

Breakthrough Concepts—Refers to a range of technologies and methods emerging from scientific research that may be employed to reduce carbon dioxide emissions or otherwise capture and sequester carbon. Such technologies and methods may involve processes for advanced carbon dioxide capture through biochemistry or enzymes, subsurface neutralization of carbon dioxide, or unique systems that may enhance carbon sequestration.

Background and Need for Agency Action

Since 1997, when the DOE's Office of Fossil Energy consolidated its funding of research and evaluations for controlling greenhouse gas emissions, that office has continued to be engaged in research studies, evaluations, and limited field investigations into technologies and methods for capturing and sequestering carbon dioxide. These carbon sequestration activities received increased emphasis with the announcement of the Global Climate Change Initiative (GCCI) on February 14, 2002, by President George W. Bush, which calls for an 18 percent reduction in the carbon intensity (the ratio of carbon dioxide emissions to economic output) of the U.S. economy by 2012. The consolidated Carbon Sequestration Program, which is administered for the Office of Fossil Energy by the National Energy Technology Laboratory (NETL), is seeking to develop a portfolio of technology options that have significant potential for achieving the GCCI carbon goal.

The Program now encompasses more than 80 research and development projects conducted throughout the United States. The programmatic objective is to demonstrate a series of safe and cost-effective technologies at a commercial scale by 2012 and to establish the potential for deployment leading to substantial market acceptance beyond 2012. Because the research and development activities for carbon sequestration are demonstrating the potential readiness of technologies for field-testing, DOE has initiated planning to prepare a PEIS.

Concentrations of carbon dioxide in the atmosphere have increased rapidly in recent decades, and the increase correlates to the rate of world industrialization. In 1992, the United States and 160 other countries ratified the Framework Convention on Climate Change, which calls for “* * * stabilization of greenhouse gas concentrations in the atmosphere at a level that would prevent dangerous anthropogenic interference with the climate system.” What constitutes an acceptable level of greenhouse gases in the atmosphere remains open to debate, but even modest stabilization scenarios would eventually require a reduction in worldwide greenhouse gas emissions of 50 to 90 percent below current levels (Carbon Sequestration Project Portfolio, available on the Carbon Sequestration Web site at: http://www.netl.doe.gov/coalpower/sequestration/index.html).

Technology solutions that provide energy-based goods and services with reduced greenhouse gas emissions are the President's preferred approach to achieving the GCCI goal. The GCCI also calls for a progress review relative to the goals of the initiative in 2012, at which time decisions will be made about additional implementation measures for mitigating greenhouse gas emissions. By focusing on greenhouse gas intensity as the measure of success, this strategy promotes vital climate change research and development (R&D) while minimizing the economic impact of greenhouse gas stabilization in the United States.

In combination with improved energy efficiency of fossil fuel utilization and use of low-carbon fuels, carbon sequestration is an option for greenhouse gas mitigation. It involves the capture and storage of carbon dioxide and other greenhouse gases that would otherwise be emitted to the atmosphere. The greenhouse gases can be captured at the point of emission, or they can be removed from the air. The captured gases can potentially be stored in geologic reservoirs, dissolved in deep oceans, converted to rock-like solid materials, or absorbed by vegetation and soils for long-term and stable sequestration.

Current annual U.S. greenhouse gas emissions are 12 percent higher than they were in 1992, and the Energy Information Administration (EIA) forecasts that growth in U.S. CO2 emissions over the next 20 years will exceed 30 percent (Annual Energy Outlook, 2004). The projected increase is more significant when one considers that in their analysis, EIA assumes significant deployment of new energy technologies through 2020—for example, a fourfold increase in electricity generation from wind turbines, a doubling of ethanol use in automobiles, and a 25 percent decrease in industrial energy use per unit of output. The need for greenhouse gas emissions reduction could be very large within a few decades. If the potential for carbon sequestration can be realized, it would greatly reduce the cost of greenhouse gas emissions mitigation.

Approximately one-third of the current U.S. greenhouse gas emissions come from power plants, oil refineries, and other large point sources, and the percentage will increase in the future with a trend toward increased refining and de-carbonization of fuels. At the same time, the United States has vast forests and prairies, and is underlain by numerous significant saline formations, depleted oil and gas reservoirs, and unminable coal seams that have the combined potential to store centuries of greenhouse gas emissions. Many options for CO2 storage also have the potential to provide value-added benefits. For example, tree plantings, no-till farming, and other terrestrial sequestration practices can reduce soil erosion and pollutant runoff into streams and rivers. Storing CO2 in depleted oil reservoirs and unminable coal seams containing methane can enhance the recovery of crude oil and natural gas, while leaving a portion of the greenhouse gas sequestered. These value-added benefits have provided motivation for near-term action and create potentially viable opportunities for integrated CO2 capture and storage systems.

Proposed Action

The Proposed Action is for DOE to continue implementation of its Carbon Sequestration Program with a focus on moving toward GCCI goals and to eventually help meet the requirements of the Framework Convention on Climate Change. To achieve these objectives, the Program needs to consider, evaluate, develop, and implement carbon capture and carbon storage technologies, including effective measurement, monitoring, and verification methods, over a longer-range planning horizon. The Program also needs to provide technological viability data for the GCCI 2012 technology assessment.

The Carbon Sequestration Program encompasses all aspects of carbon sequestration. DOE's NETL Carbon Sequestration Web site, http://www.netl.doe/coal/power/sequestration/ describes all of these aspects of carbon sequestration and provides the public examples of the technologies, relationships, and challenges that this PEIS will address. The Program has engaged Federal and private sector partners that have expertise in certain technology areas; for example, U.S. Department of Agriculture (USDA) and electric utilities in terrestrial sequestration; U.S. Geologic Survey and the oil industry in geologic sequestration; and the National Academy of Sciences in breakthrough concepts. The Office of Fossil Energy and the USDA have joint responsibility for terrestrial carbon sequestration activities (sequestration in the biosphere). DOE has collaborated with other Federal agencies for developing general and technical (e.g., terrestrial sequestration, geologic sequestration) guidelines for use in voluntary reporting to the Energy Information Administration on greenhouse gas emissions, as mandated by Title XVI, section 1605(b) of the Energy Policy Act of 1992. On a programmatic level, the USDA's Natural Resources Conservation Service (NRCS) and Forest Service have been directly involved in the implementation of terrestrial sequestration field projects. The Carbon Sequestration Program has also cooperated with the U.S. Department of the Interior's (DOI) Office of Surface Mining under a Memorandum of Understanding to sequester carbon on abandoned mined lands. The Program's longer-term research efforts (breakthrough concepts) are coordinated with DOE's Office of Science, the National Science Foundation, and within the academic research community. Finally, the Program is working with the U.S. Environmental Protection Agency to assess the role that non-CO2 greenhouse gas emissions abatement actions can play in a nationwide strategy for reducing greenhouse gas intensity and to identify priority research.

A strong focus is placed on direct capture of CO2 emissions from large point sources and subsequent storage in geologic formations. These large point sources, such as power plants, oil refineries, and industrial facilities, are the foundation of the U.S. economy. Reducing net CO2 emissions from these facilities complements efforts to reduce emissions of particulate matter, sulfur dioxide, and nitrogen oxides, and represents a progression toward fossil fuel production, conversion, and use with little or no detrimental environmental impact. In addition, measurement, monitoring, and verification is emerging as an important crosscutting component for CO2 capture and storage systems, and terrestrial offsets are a vital component of cost-effective, near-complete elimination of net CO2 emissions from many large point sources. See NETL's Carbon Sequestration Web site, described above for further information.

Through the Carbon Sequestration Program, DOE is seeking to develop a portfolio of technologies that hold the greatest promise for the capture and long-term sequestration of greenhouse gases. The timeline for the Program will need to demonstrate the readiness of a variety of safe and cost-effective candidate carbon capture and carbon storage technologies for consideration in deployment at a commercial scale by 2012, if needed, with potential deployment leading to substantial market acceptance beyond 2012. Wide-scale deployment of these technologies will require confirmation and acceptance of their ability to slow the growth of greenhouse gas emissions in the near-term while ultimately leading to a stabilized emission rate toward the middle of the 21st century.

DOE proposes that the Carbon Sequestration PEIS will evaluate the issues and impacts associated with the demonstration and deployment of technologies to implement the key elements of the Program: carbon dioxide capture; sequestration (geologic, oceanic, and terrestrial); MMV; and breakthrough concepts (see Definitions, previous). Major initiatives to demonstrate the key elements of carbon sequestration may require increased collaboration with Federal agencies, state and regional governments, and private sector partnerships. The PEIS will analyze impacts of carbon sequestration technologies and future demonstration activities programmatically and will not directly evaluate specific field demonstration projects. However, because the PEIS will evaluate issues and impacts associated with regional approaches, opportunities, and future needs for the Program, findings from the PEIS may be applicable to future site-specific projects within the Carbon Sequestration Program, for which separate NEPA documents that could tier from the PEIS would be prepared.

Alternatives

NEPA requires that agencies evaluate the reasonable alternatives to a proposed major Federal action significantly affecting the environment in an EIS. The purpose for agency action determines the range of reasonable alternatives. At a minimum, DOE expects that alternatives will include the Proposed Action and No Action. Under the Proposed Action, DOE would proceed to implement the Carbon Sequestration Program to achieve GCCI goals with broad participation in a range of technology initiatives, including the demonstration and deployment of promising technologies for: carbon dioxide capture; sequestration (geologic, oceanic, and terrestrial); MMV; and breakthrough concepts on a regional and national scale. For the No Action alternative, the Carbon Sequestration Program would continue along a path comparable to previous research studies, evaluations, and field investigations. However, the No Action alternative might jeopardize or limit the most effective approaches for sequestration and hinder the identification and optimization of approaches that could best achieve Program objectives. Under either alternative, individual ongoing and near-term future projects will continue and be subject to separate and specific NEPA review and documentation.

Under the Proposed Action, the PEIS would analyze reasonable alternatives for implementing the Carbon Sequestration Program. These action alternatives would include the range of technologies and strategies for implementing key elements of the program, including CO2 capture; sequestration (geologic, ocean, and terrestrial); MMV; and breakthrough concepts. Each of these technologies and strategies are explained in detail on DOE NETL Web site. DOE will consider analyzing additional action alternatives that may emerge during scoping and further development of the PEIS. For example, consideration may be given to alternative schedules for implementation of Program components, alternative technologies or variations in the mix of technologies to achieve Program objectives, variations in the implementation of sequestration methods, variations in implementation by geographic region, and other possibilities.

DOE expects that the PEIS findings with respect to potentially significant issues and impacts will inform the DOE decision-making process for selecting technologies to be demonstrated and deployed, as well as for establishing the timetable for their implementation. To that end, DOE is considering analyzing alternatives comprised of combinations of technology and strategic options. The PEIS might also identify technologies that appear critically flawed or that may have serious and unpredictable impacts, which would preclude them from further consideration as reasonable alternatives under the Proposed Action.

Finally, the PEIS will provide the framework for future technology assessment and field studies for the identification of new Program needs and future directions for carbon sequestration efforts. As a programmatic document, the PEIS will indicate issues and potential impacts to be evaluated more closely in site-specific environmental studies for project-specific NEPA documents.

Preliminary Identification of Environmental Issues

DOE intends to address the issues listed below when considering the potential impacts of the Carbon Sequestration Program alternatives and technologies for CO2 capture, sequestration, MMV, and breakthrough concepts. This list is neither intended to be all-inclusive nor a predetermined set of potential impacts. DOE invites comments from Federal agencies, Native American tribes, state and local governments, other interested parties, and the general public on these and any other issues that should be considered in the PEIS. The environmental issues include:

(1) Potential impacts on atmospheric resources and air quality from technologies used to capture and sequester carbon dioxide, including emissions from associated activities and the construction and operation of support facilities;

(2) Potential impacts on aesthetic and scenic resources from the construction and operation of facilities and support equipment, including pipelines and utility corridors;

(3) Potential impacts on vegetation, wildlife, wildlife habitat, marine ecosystems, and species protected by the Endangered Species Act or Marine Mammal Protection Act that may result from implementing the Program, including the construction and operation of facilities, support equipment, ocean platforms, pipelines, utility corridors, and changes in land management practices;

(4) Potential impacts on cultural and historic resources from the construction and operation of facilities and support equipment, including land-disturbing activities for the construction of facilities, access roads, pipelines, and utility corridors;

(5) Potential changes in land use to provide new facilities, access roads, pipelines, and utility corridors, and changes in commercial and industrial development patterns that may occur in areas considered suitable for the implementation of respective technologies;

(6) Potential increases in uses of fuels, solvents, and hazardous materials, as well as increases in solid and liquid waste streams from facilities and equipment uses;

(7) Human health and safety issues associated with the construction and operation of new facilities, access roads, ocean platforms, pipelines, and utility corridors.

(8) Human health and safety issues related to potential unplanned instantaneous release or slow leakage of CO2 from pipelines, facility infrastructure, and sequestration media.

(9) Potential socioeconomic impacts from the energy demands for CO2 capture facilities, from the effects of geologic sequestration on oil and gas production, from the effects of ocean sequestration on fishing and tourism, from changes in land management practices for terrestrial sequestration, from the potential creation of a commodity market for trading in CO2 reduction credits, and from other factors associated with the implementation of the Program, including environmental justice issues that may result from the siting of facilities;

(10) Potential impacts on utility infrastructure resulting from the demands of new facilities and equipment;

(11) Impacts on water resources and quality resulting from land-disturbance and runoff during construction and operation of facilities, equipment, access roads, and utility corridors associated with the Program; geologic sequestration may have impacts on groundwater resources, and ocean CO2 sequestration may have impacts on aquatic chemistry and marine ecosystems;

(12) Soil contamination, erosion, and sedimentation may result from construction and operation of facilities, equipment, access roads, and utility corridors associated with the implementation of the Program; changes in land management practices may also affect soils; and

(13) Potential hydrologic fractures in formations due to CO2 injection that may affect aquifers and could cause small and localized seismic hazards.

Public Scoping Process

DOE will hold eight public scoping meetings for the Carbon Sequestration PEIS throughout the United States. The objective of the scoping meetings is to seek input from attendees that will be used to refine the issues and focus the Draft PEIS evaluations. The meeting schedules, including any changes to meeting locations or dates, will be published in the Federal Register, the respective local media, and DOE's monthly Carbon Sequestration Newsletter, and be posted at the DOE Carbon Sequestration Web site: http://www.netl.doe.gov/coalpower/sequestration/index.html. The dates and locations for the meetings are as follows:

• May 6, 2004: Alexandria, Virginia. Hilton Alexandria Mark Center, 5000 Seminary Road, Alexandria, VA 22311.

• May 18, 2004: Columbus, Ohio. Greater Columbus Convention Center, 400 North High Street, Columbus, OH 43215.

• May 19, 2004: Chicago, Illinois. Holiday Inn—Rolling Meadows, 3405 Algonquin Road, Rolling Meadows, IL 60008.

• May 25, 2004: Houston, Texas. Humble Civic Center, 8233 Will Clayton Parkway, Humble, TX 77338.

• May 27, 2004: Sacramento, California. Lions Gate, 3410 Westover St., McClellan, CA 95652-1005.

• June 2, 2004: Atlanta, Georgia. Hilton Atlanta Northeast, 5993 Peachtree Industrial Blvd., Norcross, GA 30092.

• June 8, 2004: Bozeman, Montana. (Open House starting at 5 p.m.), Bozeman High School, 205 N. 11th Avenue, Bozeman, MT 59715.

• June 10, 2004: Grand Forks, North Dakota. Northland Community & Technical College, 2022 Central Avenue, NE., East Grand Forks, MN 56721.

The scoping meetings will begin at 7 p.m. and will conform to NEPA guidance and DOE Public Participation policies. Unless otherwise noted, each meeting will be preceded by an informal information session from 4 p.m. until approximately 7 p.m. providing an opportunity for individuals to learn more about the Carbon Sequestration Program and the NEPA process and to talk with Program participants. Graphic displays and presentation materials will be made available to the public during the meetings. The scoping meetings will include presentations about the Carbon Sequestration Program and the NEPA process, followed by an opportunity for attendees to speak on behalf of organizations or themselves. To ensure that all individuals wishing to speak have an adequate opportunity to do so, each speaker will be allotted five minutes. Depending upon the number of persons wishing to speak, additional time may be provided. All spoken comments will be recorded during the meetings and a transcript prepared; however, speakers are encouraged to provide written versions of their prepared comments for the record. Comment cards also will be available at the meetings for written comments. The comment cards may be submitted at the meeting or mailed to DOE (see ADDRESSES) within the established public comment period. Written and spoken comments will be given equal consideration.

Preliminary PEIS Schedule

DOE plans to complete the Draft PEIS by Summer 2005 and will announce its availability in the Federal Register and other media when published. Agencies, organizations, and the public will then have an opportunity to submit comments. DOE will also hold public hearings for the Draft PEIS at locations comparable to those for the scoping meetings. The public hearings will be held during the weeks following publication of the Draft PEIS and will be announced in the Notice of Availability for the Draft PEIS and other media. DOE will consider all substantive comments received at public meetings or otherwise during preparation of the Final PEIS, which DOE plans to issue by the Spring of 2006.

Issued in Washington, DC, on April 16, 2004.
Beverly A. Cook,
Assistant Secretary, Environment, Safety and Health.

[FR Doc. 04-9021 Filed 4-20-04; 8:45 am]

BILLING CODE 6450-01-P